DEPARTMENT OF DEFENSE

Department of the Air Force

Gulf Regional Airspace Strategic Initiative, Landscape Initiative Eglin Air Force Base, Florida

ACTION: Notice of Availability (NOA) Record of Decision (ROD).

SUMMARY: On November 18, 2015, the United States Air Force signed the ROD for the Gulf Regional Airspace Strategic Iniitative, Landscape Initiative Eglin Air Force Base, Florida Final Environmental Impact Statement (EIS). This ROD states the Air Force decision is to select Subalternative 1. The decision means that the Air Force will request a more limited set of specific training and emitter activities from its GRASI partner agencies. The selection of Subalternative 1 reduces the amount of training, frequencies, and geographic extent of training that will be requested of partner organizations to reduce the potential for recreational conflicts identified by the public and the potential for environmental impacts. Training and emitter activities, if approved by GRASI GLI partners, would occur in Blackwater River and Tate's Hell State Forests and other select locations in Northwest Florida.

The decision was based on matters discussed in the Final EIS; inputs from the public, Native American tribes, and Federal, State and local units of government, and regulatory agencies; and other relevant factors. The Final EIS was made available to the public on June 5, 2015, 2015, through a NOA in the Federal Register (Volume 80, Number 108, Page 32114) with a post-filing waiting period that ended on July 6, 2015. This ROD documents only the Air Force decision on the proposed actions analyzed in the Final EIS.

Authority: This NOA is published pursuant to the regulations (40 CFR Sec. 1506.6) implementing the provisions of the National Environmental Policy Act of 1969 (42 U.S.C. 4321, et seq.) and the Air Force's Environmental Impact Analysis Process (32 CFR Secs. 989.21(b) and 989.24(b)(7)).

FOR FURTHER INFORMATION CONTACT: Mike Akerman, AFCEC/CZN 2261 Hughes Ave., Ste. 155, JBSA Lackland, TX 78236, (210) 925-2741.

Henry Williams,
Acting Air Force Federal Register Liaison Officer, Civ, DAF.

[FR Doc. 2015-30768 Filed 12-4-15; 8:45 am]

BILLING CODE 5001-10-P